DEPARTMENT OF COMMERCE

National Oceanic and Atmospheric Administration

[RTID 0648-XF435]

South Atlantic Fishery Management Council; Public Meeting

AGENCY: National Marine Fisheries Service (NMFS), National Oceanic and Atmospheric Administration (NOAA), Commerce.

ACTION: Meeting of the South Atlantic Fishery Management Council.

SUMMARY: The South Atlantic Fishery Management Council (Council) will hold a meeting to consider approval of Coral Amendment 11/Shrimp Amendment 12 addressing a rock shrimp fishery access area in the Oculina Bank Habitat Area of Particular Concern (HAPC). There will be an opportunity for public comment. The meeting will also include a formal public comment session.

DATES: The Council meeting will be held via webinar from 10 a.m. to 12 p.m. on Friday, January 23, 2026.

ADDRESSES:

Meeting address: The meeting will be held via webinar. Webinar registration is required. Details are included in the SUPPLEMENTARY INFORMATION.

FOR FURTHER INFORMATION CONTACT: Myra Brouwer, SAFMC; phone 843/302-8440 or toll free 866/SAFMC-10; FAX 843/769-4520; email: Myra.Brouwer@safmc.net.

SUPPLEMENTARY INFORMATION: Meeting information, including the agenda, overview, briefing materials, and an online public comment form will be posted on the Council's website at: https://safmc.net/council-meetings/. The materials will be posted one week prior to the meeting. Webinar registration links for the meeting will also be available from the Council's website.

Public comment: Public comment on agenda items may be submitted through the Council's online comment form available from the Council's website. Written comments will be accepted from January 16, 2026, until January 23, 2026. These comments are accessible to the public, part of the Administrative Record of the meeting, and immediately available for Council consideration. A public comment session will also be held during the Council meeting.

The Council will receive an overview of a draft comprehensive amendment (Coral Amendment 11 and Shrimp Amendment 12) addressing a proposed rock shrimp access area along the Oculina Bank Habitat Area of Particular Concern and consider approving for submission to the Secretary of Commerce for review and final approval of management measures.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 5 days prior to the meeting.

Note: The times and sequence specified in this agenda are subject to change.

Authority: 16 U.S.C. 1801 et seq.

Dated: December 29, 2025.
Becky Curtis,
Acting Deputy Director, Office of Sustainable Fisheries, National Marine Fisheries Service.

[FR Doc. 2025-24151 Filed 12-30-25; 8:45 am]

BILLING CODE 3510-22-P